DEPARTMENT OF COMMERCE

International Trade Administration

[A-533-824]

Polyethylene Terephthalate Film Sheet, and Strip From India: Notice of Correction to the Notice of a Court Decision Not in Harmony With the Final Results of the Antidumping Duty Administrative Review, 2015-2016; and Notice of Amended Final Results of the Antidumping Duty Administrative Review, 2015-2016

AGENCY: Enforcement and Compliance, International Trade Administration, Department of Commerce.

DATES: Applicable August 2, 2019.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION: On August 2, 2019, the Department of Commerce (Commerce) published the Federal Register notice of a court decision not in harmony with the final results of the antidumping duty administrative review, 2015-2016, and notice amending the final results of its administrative review with respect to the weighted-average dumping margin assigned to Jindal Poly Films Limited of India.¹ In that notice, Commerce inadvertently listed the applicable date as July 23, 2019. The correct applicable date is August 2, 2019.

¹ See Polyethylene Terephthalate Film, Sheet, and Strip from India: Notice of Court Decision Not in Harmony with the Final Results of the Antidumping Duty Administrative Review, 2015-2016; and Notice of Amended Final Results of the Antidumping Duty Administrative Review, 2015-2016, 84 FR 37832 (August 2, 2019).

This correction to the Federal Register notice is issued in accordance with sections 516A(e)(1), 751(a)(1) and 777(i)(1) of the Tariff Act of 1930, as amended.

Dated: September 24, 2019.
Christian Marsh,
Deputy Assistant Secretary for Enforcement and Compliance.

[FR Doc. 2019-21153 Filed 9-27-19; 8:45 am]

BILLING CODE 3510-DS-P